DEPARTMENT OF LABOR

Mine Safety and Health Administration

[OMB Control No. 1219-0146]

Proposed Extension of Existing Information Collection; Refuge Alternatives for Underground Coal Mines

AGENCY: Mine Safety and Health Administration.

ACTION: Notice of request for public comments.

SUMMARY: The Department of Labor, as part of its continuing effort to reduce paperwork and respondent burden, conducts a pre-clearance consultation program to provide the general public and Federal and state agencies with an opportunity to comment on proposed and continuing collections of information in accordance with the Paperwork Reduction Act of 1995 (PRA95) [44 U.S.C. 3506(c)(2)(A)]. This program helps ensure that requested data can be provided in the desired format, that reporting (time and financial resources) is minimal, that collection instruments are clearly understood, and that the impact of collection requirements can be properly assessed.

The Mine Safety and Health Administration is soliciting comments concerning the proposed extension of an existing information collection, OMB Control Number 1219-0146, Refuge Alternatives for Underground Coal Mines

DATES: Submit comments on or before April 2, 2012.

ADDRESSES: Comments must be identified with “OMB Control Number 1219-0146” and may be sent to MSHA by any of the following methods:

• Federal E-Rulemaking Portal: http://www.regulations.gov. Follow the on-line instructions for submitting comments.

• Facsimile: 202-693-9441. Include “OMB 1219-0146” in the subject line of the message.

• Regular Mail: MSHA, Office of Standards, Regulations, and Variances, 1100 Wilson Boulevard, Room 2350, Arlington, Virginia 22209-3939.

• Hand Delivery or Courier: MSHA, Office of Standards, Regulations, and Variances, 1100 Wilson Boulevard, Room 2350, Arlington, Virginia. Sign in at the receptionist's desk on the 21st floor.

FOR FURTHER INFORMATION CONTACT: Greg Moxness, Chief, Economic Analysis Division, Office of Standards, Regulations, and Variances, MSHA, at moxness.greg@dol.gov (email); 202-693-9440 (voice); or 202-693-9441 (facsimile).

SUPPLEMENTARY INFORMATION:

I. Background

The Mine Safety and Health Administration is responsible for the approval of refuge alternatives. The information collection requirements are intended to help protect miners by assuring that mine operators properly supply and maintain refuge alternatives, and in the event of an emergency, that miners will know when and where to seek refuge, that the immediate area of the refuge is secure from roof failure, and that maps are current and can be used by mine rescue teams to locate the sheltered miners.

II. Desired Focus of Comments

MSHA is particularly interested in comments that:

• Evaluate whether the collection of information is necessary for the proper performance of the functions of the Agency, including whether the information has practical utility;

• Evaluate the accuracy of the Agency's estimate of the burden of the collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submissions of responses).

A copy of the information collection request can be obtained by contacting the employee listed in the FOR FURTHER INFORMATION CONTACT section of this notice or viewed on the Internet by accessing the MSHA home page (http://www.msha.gov/) and selecting “Rules and Regs,” and then selecting “Fed Reg Docs.”

III. Current Actions

This notice contains the request for an extension of the existing collection of information in 30 CFR 75.1506—Refuge alternatives. MSHA does not intend to publish the results from this information collection and is not seeking approval to either display or not display the expiration date for the OMB approval of this information collection.

There are no certification exceptions identified with this information collection and the collection of this information does not employ statistical methods.

Type of Review: Extension.

Agency: Mine Safety and Health Administration.

Title: Refuge Alternatives for Underground Coal Mines.

OMB Number: 1219-0146.

Affected Public: Business or other for-profit.

Cite/Reference/Form/etc: 30 CFR Part 75.

Total Respondents: 510.

Frequency: Various.

Total Responses: 958,819.

Estimated Total Burden Hours: 93,917 hours.

Estimated Total Burden Cost: $7,979,712.

Comments submitted in response to this notice will be summarized and/or included in the request for Office of Management and Budget approval of the information collection request; they will also become a matter of public record.

Patricia W. Silvey,
Certifying Officer.

[FR Doc. 2012-1988 Filed 1-30-12; 8:45 am]

BILLING CODE 4510-43-P